DEPARTMENT OF LABOR

Agency Information Collection Activities; Submission for OMB Review; Comment Request; Apprenticeship Evidence-Building Portfolio, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Apprenticeship Evidence-Building Portfolio. A copy of the proposed Information Collection Request (ICR) can be obtained by contacting the office listed below in the addressee section of this notice.

DATES: Written comments must be submitted to the office listed in the addressee section below on or before April 5, 2021.

ADDRESSES: You may submit comments by either one of the following methods:

Email: ChiefEvaluationOffice@dol.gov; Mail or Courier: Janet Javar, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Janet Javar by email at ChiefEvaluationOffice@dol.gov or by phone at (202) 693-5954.

SUPPLEMENTARY INFORMATION:

I. Background: The Chief Evaluation Office (CEO) of the U.S. Department of Labor (DOL) intends to design and conduct evaluations of DOL-funded apprenticeship initiatives through the Apprenticeship Evidence-Building Portfolio. The portfolio of initiatives includes the Scaling Apprenticeship Through Sector-Based Strategies grants, Closing the Skills Gap grants, Youth Apprenticeship Readiness grants, and other DOL investments. The goal of this five-year study is to build evidence on apprenticeship models, practices, and partnership strategies in high-growth occupations and industries. The overall study is comprised of several components: (1) An implementation study of the Scaling Apprenticeship and Closing the Skills Gap grants to develop typologies of apprenticeship models and practices, identify promising strategies across the portfolio, and to better understand the implementation of models to help interpret impact evaluation findings; (2) a study of registered apprenticeship state systems and partnerships to assess their capacity to develop, design, modify, implement, replicate, sustain, expand/scale up, and evaluate apprenticeship strategies and models; and (3) an implementation evaluation of the Youth Apprenticeship Readiness grant program to understand service delivery design and implementation, challenges, and promising practices. DOL will submit additional ICRs for future data collection requests for this overall study.

This Federal Register Notice provides the opportunity to comment on nine proposed data collection instruments that will be used in the evaluations: Apprenticeship grantee survey; state system capacity assessment interview guide for state staff; state system capacity assessment interview guide for local lead organization staff; state system capacity assessment interview guide for local partner staff; state system capacity assessment interview guide for employer partner staff; youth apprenticeship baseline survey and consent form for program staff; youth apprenticeship interview guide for program staff; youth apprenticeship interview guide for program partners; and youth apprenticeship interview guide for follow-up with program staff.

1. Apprenticeship grantee survey. Survey of 23 Scaling Apprenticeship and 28 Closing the Skills Gap grantees to collect program information.

2. State System Capacity Assessment semi-structured interview protocol for state staff. Virtual semi-structured interviews with approximately 5 state staff in each of the approximately 15 states participating in the study, beginning summer 2021.

3. State System Capacity Assessment semi-structured interview protocol for local lead organization staff. Virtual semi-structured interviews with approximately 6 staff from local lead organizations in each state.

4. State System Capacity Assessment semi-structured interview protocol for local partner staff. Virtual semi-structured interviews with approximately10 local partner staff in each state.

5. State System Capacity Assessment semi-structured interview protocol for employer partner staff. Virtual semi-structured interviews with approximately 2 employer partner staff in each state.

6. Youth Apprenticeship survey and consent for program staff. Survey of Youth Apprenticeship Readiness grant program staff to collect program information.

7. Youth Apprenticeship semi-structured interview protocol for program staff. In-person semi-structured interviews with approximately 4 program staff in in each of the approximately 9 grants participating in the study, beginning in fall 2021. If in-person visits are not possible, the interviews will be conducted virtually.

8. Youth Apprenticeship semi-structured interview protocol for program partners. In-person semi-structured interviews with approximately 6 staff of program partners in each grants. If in-person visits are not possible, the interviews will be conducted virtually.

9. Youth Apprenticeship semi-structured interview protocol for follow-up with program staff. In-person semi-structured follow-up interviews with approximately 2 program staff in each grant. If in-person visits are not possible, the interviews will be conducted virtually.

II. Desired Focus of Comments: Currently, DOL is soliciting comments concerning the above data collection for the Apprenticeship Evidence-Building Portfolio. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, DOL is requesting clearance for the apprenticeship grantee survey; state system capacity assessment interview protocol for state staff; state system capacity assessment interview protocol for local lead organization staff; state system capacity assessment interview protocol for local partner staff; state system capacity assessment interview protocol for employer partner staff; youth apprenticeship baseline survey and consent form for program staff; youth apprenticeship interview protocol for program staff; youth apprenticeship interview protocol for program partners; and youth apprenticeship interview protocol for follow-up with program staff.

Type of Review: New information collection request.

OMB Control Number: 1290-0NEW.

Affected Public: Program staff, program partners, and participants of the Scaling Apprenticeship Through Sector-Based Strategies, Closing the Skills Gap, and Youth Apprenticeship Readiness grants. Additionally, state staff, partners, and representatives of local and regional apprenticeship initiatives and programs.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Apprenticeship grantee survey | ¹ 17 | 1 | 17 | 3.0 | 51
State System Capacity Assessment interview protocol—state staff | ² 25 | 1 | 25 | 2.0 | 50
State System Capacity Assessment interview protocol—local lead organization staff | ³ 30 | 1 | 30 | 1.0 | 30
State System Capacity Assessment interview protocol—local partner staff | ⁴ 50 | 1 | 50 | 1.0 | 50
State System Capacity Assessment interview protocol—employer partner staff | ⁵ 10 | 1 | 10 | 1.0 | 10
Youth Apprenticeship survey and consent—program staff | 5 | 1 | 5 | 1.5 | 7.5
Youth Apprenticeship interview protocol—program staff | ⁶ 12 | 1 | 12 | 1.0 | 12
Youth Apprenticeship interview protocol—program partners | ⁷ 18 | 1 | 18 | 1.0 | 18
Youth Apprenticeship interview protocol—follow-up with program staff | ⁸ 6 | 1 | 6 | 1.0 | 6
Total | 173 |  | 173 |  | 234.5
¹ Assumes 23 Scaling Apprenticeship and 28 Closing the Skill Gap grantees over the three-year clearance period.
² Assumes interviews with 5 staff in state programs in 15 states over the three-year clearance period.
³ Assumes interviews with 6 staff in lead organizations in 15 states over the three-year clearance period.
⁴ Assumes interviews with 10 staff in local partner organizations in 15 states over the three-year clearance period.
⁵ Assumes interviews with 2 staff with employers in 15 states over the three-year clearance period.
⁶ Assumes interviews with 4 program staff in 9 sites over the three-year clearance period.
⁷ Assumes interviews with 6 program partner staff in 9 sites over the three-year clearance period.
⁸ Assumes follow-up interviews with 2 program staff in 9 sites over the three-year clearance period.

Christina Yancey,
Chief Evaluation Officer, U.S. Department of Labor.

[FR Doc. 2021-02111 Filed 2-1-21; 8:45 am]

BILLING CODE 4510-HX-P